DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection project: “Voluntary Customer Surveys Generic Clearance for the Agency for Healthcare Research and Quality” (formerly known as Voluntary Customer Satisfaction Survey Generic Clearance for the Agency for Healthcare Research and Quality). In accordance with the Paperwork Reduction Act of 1995, 44 U.S.C. 3506(c)(2)(A), AHRQ invites the public to comment on this proposed information collection request to allow AHRQ to conduct customers surveys. This proposed information collection was previously published in the Federal Register on July 13, 2004 and allowed 60 Days for public comment. No public comments were received. The purpose of this notice is to allow an additional 30 Days for public comment.

DATES: Comments on this notice must be received by September 13, 2004.

ADDRESSES: Written comments should be submitted to: John Kraemer, at the Office of Information and Regulatory Affairs, OMB at the following email address John Kraemer@omb.eop.gov and the fax number is (202) 395-6974.

FOR FURTHER INFORMATION CONTACT: Cynthia D. McMichael, AHRQ, Reports Clearance Officer, (301) 427-1651.

SUPPLEMENTARY INFORMATION:

Proposed Project: “Voluntary Customer Surveys Generic Clearance for the Agency for Healthcare Research and Quality”

In response to Executive Order 12862, the Agency for Healthcare Research and Quality (AHRQ) plans to conduct voluntary customer surveys to assess strengths and weaknesses in agency program services. Customer surveys to be conducted by AHRQ may include readership surveys from individuals using AHRQ automated and electronic technology databases to determine satisfaction with the information provided or surveys to assess effects of the grants streamlining efforts.

Results of these surveys will be used in future program planning iniatives and to redirect resources and efforts, as needed, to improve AHRQ program services. The current clearance will expire September 30, 2004. This is a request for a generic approval from OMB to conduct customer surveys over the next three years.

Method of Collection

The data will be collected using a combination of methodologies appropriate to each survey. These methodologies include:

• Evaluation forms;

• Mail surveys;

• Focus groups;

• Automated and electronic technology (e.g., email, web-based surveys, instant fax, AHRQ Publications Clearinghouse customer feedback) and,

• Telephone surveys.

Estimated Annual Respondent Burden
Type of survey | No. of respondents | Average burden/response | Total hours of burden
Mail/Telephone Surveys | 51,200 | .15 | 7,680
Automated/Web-based | 52,000 | .163 | 8,476
Focus Groups | 200 | 1.0 | 200
Totals | 103,400 | NA | 16,356

Request for Comments

In accordance with the above cited Paperwork Reduction Act legislation, comments on the AHRQ's information collection are requested with regard to any of the following: (a) Whether the proposed collection of information is necessary for the proper performance of functions of AHRQ, including whether the information will have practical utility; (b) the accuracy of the Agency's estimate of the burden (including hours and costs) of the proposed collection of information; (c) ways to enhance the quality, utility, and clarity of the information to be collected; and (d) ways to minimize the burden of the collection of information on respondents, including the use of automated collection techniques or other forms of information technology.

Comments submitted in response to this notice will summarized and included in the request for OMB approval of the proposed information collection. All comments will become a matter of public record.

Dated: August 6, 2004.
Carolyn M. Clancy,
Director.

[FR Doc. 04-18653 Filed 8-12-04; 8:45 am]

BILLING CODE 4160-90-M